COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a product to the Procurement List that will be furnished by a nonprofit agency employing persons who are blind or have other severe disabilities, and deletes products from the Procurement List previously furnished by such agencies.

DATES: Date added to and deleted from the Procurement List: October 21, 2018.

ADDRESSES: Committee for Purchase From People Who Are Blind or Severely Disabled, 1401 S Clark Street, Suite 715, Arlington, Virginia 22202-4149.

FOR FURTHER INFORMATION CONTACT: Amy Jensen, Telephone: (703) 603-2132, Fax: (703) 603-0655, or email CMTEFedReg@AbilityOne.gov.

SUPPLEMENTARY INFORMATION:

Addition

On 8/24/2018 (83 FR 165-Correction), the Committee for Purchase From People Who Are Blind or Severely Disabled published a notice of proposed addition to the Procurement List.

After consideration of the material presented to it concerning capability of the qualified nonprofit agency to provide the product and impact of the addition on the current or most recent contractors, the Committee has determined that the product listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the product to the Government.

2. The action will result in authorizing a small entity to furnish the product to the Government.

3. There are no known regulatory alternatives which would accomplish the objectives of the Javits-Wagner-O'Day Act (41 U.S.C. 8501-8506) in connection with the product proposed for addition to the Procurement List.

End of Certification

Accordingly, the following product is added to the Procurement List:

Product

NSN(s)—Product Name(s): 7360-00-139-0480—Disposable Dinnerware Kit

Mandatory Source(s) of Supply: Expanco, Inc., Fort Worth, TX

Mandatory for: 100% of the requirement of the Department of Defense

Contracting Activity: Defense Logistics Agency Troop Support

Distribution: C-List

Deletions

On 8/24/2018 (83 FR 165-Correction), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

COE001—Blazer

COE002—Blazer

COE004—Shirt

COE005—Shirt

COE006—Shirt

COE007—Shirt

COE008—Tab Bow

COE009—Tie

COE010—Tie Tac

COE011—Pants

COE012—Pants

COE013—Skirt

COE014A—Shirt

COE014B—Shirt

COE015B—Shirt

COE015A—Shirt

COE016A—Trousers

COE016B—Trousers

COE018—Cap

COE027—Shirt

COE032—Pants

COE033—Pants

COE034A—Gloves

COE034B—Gloves

Mandatory Source of Supply: Human Technologies Corporation, Utica, NY

Contracting Activity: W072 ENDIST PITTSBURGH, Pittsburgh, PA

NSN(s)—Product Name(s): 7510-00-NSH-0114—Remanufactured Ink Cartridges, Black

Mandatory Source of Supply: TRI Industries NFP, Vernon Hills, IL

Contracting Activity: Kansas City Acquisition Branch, Kansas City, MO

Patricia Briscoe,
Deputy Director, Business Operations (Pricing and Information Management).

[FR Doc. 2018-20600 Filed 9-20-18; 8:45 am]

BILLING CODE 6353-01-P